ENVIRONMENTAL PROTECTION AGENCY

40 CFR Part 52

[LA-35-2-7339a; FRL-7234-3]

Approval and Promulgation of Implementation Plans; Louisiana; Control of Emissions of Volatile Organic Compounds From Industrial Wastewater Facilities

AGENCY: Environmental Protection Agency (EPA).

ACTION: Direct final rule.

SUMMARY: The EPA is taking direct final action to approve revisions to the Louisiana State Implementation Plan (SIP). The revisions incorporate regulations to control Volatile Organic Compound (VOC) emissions from industrial wastewater facilities by means of Reasonable Available Control Technology (RACT). The intended effect of these rules is to reduce VOC emissions into the ambient air and thereby reduce ground-level ozone concentrations. This action applies to Ascension, Calcasieu, East Baton Rouge, Iberville, Livingston, Pointe Coupee, and West Baton Rouge Parishes. This action is being taken in accordance with the Clean Air Act (CAA).

DATES: This rule is effective on August 19, 2002 without further notice, unless we receive adverse comment by July 22, 2002. If we receive such comment, we will publish a timely withdrawal in the Federal Register informing the public that this rule will not take effect.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Louisiana Department of Environmental Quality, Office of Environmental Assessment, H. B. Garlock Building, 7290 Bluebonnet Blvd., Baton Rouge, Louisiana, 70810.

FOR FURTHER INFORMATION CONTACT: Joe Kordzi, Air Planning Section (6PD-L), EPA Region 6, 1445 Ross Avenue, Dallas, Texas 75202-2733, telephone (214) 665-7186.

SUPPLEMENTARY INFORMATION: Throughout this document “we,” “us,” and “our” refers to EPA.

Table of Contents

I. What is the background on this action?

II. What has the State submitted?

III. What analysis was done by the EPA on the State's submittal?

IV. What action is EPA taking?

V. Why is this a “Final Action?”

VI. What administrative requirements apply for this action?

I. What Is the Background on This Action?

Section 172(c)(1) of the CAA contains general requirements for States to adopt RACT ¹ rules for major stationary sources of VOCs located in ozone nonattainment areas.

Section 182(b)(2) ² of the CAA requires that states submit a revision to their SIP to include provisions to require RACT for each category of VOC ³ sources covered by a Control Techniques Guideline (CTG). RACT is required for major sources in moderate and above ozone nonattainment areas and for minor sources where EPA has issued a CTG. The CTGs provide information on available air pollution control techniques and provide recommendations on what the EPA considers the “presumptive norm” for RACT.

¹ The EPA has defined RACT as the lowest emission limitation that a particular source is capable of meeting by the application of control technology that is reasonably available, considering technological and economic feasibility (see 44 FR 53761, September 17, 1979).

² Section 182(b)(2) applies to ozone nonattainment areas classified as moderate or above. Although Calcasieu Parish is a former nonattainment area, now reclassified to ozone attainment (see 62 FR 5555, February 6, 1997), the State of Louisiana opted to expand the scope of the industrial wastewater rules to include this parish.

³ VOC refers to a class of chemicals that react in the atmosphere in the presence of sunlight to form ozone. Sources include vehicle exhaust, gasoline vapors, oil-based paints and industrial operations. A regulatory definition of VOCs can be found at 40 CFR Part 51.100(s)

Under section 183 of the CAA as amended in 1990, entitled “Federal Ozone Measures,” the EPA was required to issue CTGs for 13 source categories by November 15, 1993. Two specific source categories, aerospace coatings and solvents, and shipbuilding operations were listed. The other 11 categories (as listed in 57 FR 18077, April 28, 1992) are Synthetic Organic Chemical Manufacturing industry (SOCMI) distillation, SOCMI reactors, wood furniture, plastic parts business machines, plastic parts coating (other), offset lithography, industrial wastewater, SOCMI batch processing, volatile organic liquid storage tanks, and clean-up solvents. To date, CTGs have been published for four of the thirteen source categories: SOCMI distillation, SOCMI reactors, wood furniture, and shipbuilding.

The EPA also made available Alternative Control Technology (ACT) documents for the CTG source categories for which CTG documents have not yet been published. These ACT documents provide much of the same information as the CTG documents, however, instead of establishing a presumptive norm for RACT rule, these documents provide options for control.

On April 28, 1992 (57 FR 18077), the EPA interpreted the CAA to allow a State to submit a non-CTG rule by November 15, 1992, or to defer submittal of a RACT rule for sources that the State anticipated would be covered by a post-enactment CTG. For post-enactment CTGs, the amended Act requires States to submit RACT rules in accordance with the schedule specified in the corresponding CTG document. If the EPA failed to issue a CTG by November 15, 1993, the responsibility shifted to the State to submit a non-CTG RACT rule for those sources by November 15, 1994.

In addition, if there are no major sources of VOC emissions in a CTG source category located in a nonattainment area, EPA policy allows a State to submit a formal statement of their nonexistence of such major sources (i.e., a negative declaration). On April 6 and June 20, 1994, the State of Louisiana submitted letters of negative declaration for the following CTG source categories: aerospace coatings and solvents, shipbuilding operations, offset lithography, plastic parts—business machines, plastic parts—other, and wood furniture. The EPA approved these letters on October 30, 1996, in 61 FR 55894.

A CTG document was subsequently published in April 1996, for wood furniture which lowered the threshold for a source to be considered major in the wood furniture source category to 25 tons per year or more in an ozone nonattainment area. On January 28, 1997, the State of Louisiana submitted a letter of negative declaration for the wood furniture category based on the lower major source threshold. The EPA approved this letter of negative declaration on December 2, 1997 (FR 62 63658), along with a conditional approval of a revision to the SIP to control VOC emissions utilizing RACT from the SOCMI batch processing source category. By this action, the EPA also fully approved revisions to the SIP to control VOC emissions utilizing RACT from the SOCMI distillation, SOCMI reactor, and clean-up solvents major source categories. On November 9, 1998 (FR 63 47429) EPA converted this SOCMI batch processing conditional approval to a full approval.

As a result of this November 9, 1998 action, the applicable requirements relating to VOC RACT rules of 12 of the 13 CTG source categories were met. The industrial wastewater source category, which is the subject of this action, was the only remaining CTG source category for which no action had been taken.

II. What Has the State Submitted?

On April 29, 1994, the EPA issued ACT documents for Industrial Wastewater, Shipbuilding and Automobile refinishing. The Industrial Wastewater ACT is a compendium of three references. First, options for controlling emissions from industrial wastewater are covered in the draft CTG issued September, 1992 and announced for comment on December, 1993. Second, a document entitled “Revisions to Impacts of the Draft Industrial Wastewater Control Techniques Guideline” contains an overview of the changes that were made to the draft CTG to reflect changes to the Hazardous Organic NESHAP (HON). Also, the impacts of various control options were revised. Finally, the April 29, 1994 memorandum explained that the HON could be used as model rule for VOC control.

These documents were used by the Louisiana Department of Environmental Quality (LDEQ) in promulgating revisions, known as the “VOC RACT Rules,” to the Louisiana Administrative Code, LAC 33:III, Chapter 21, on September 20, 1995. The VOC RACT Rules were submitted to the EPA on December 15, 1995. These rules in part implemented requirements to control emissions from industrial wastewater at facilities with the potential to emit more than 50 tons/year of VOC's. LDEQ's wastewater VOC rules appear in section 2153 of LAC 33:III.

The LDEQ promulgated revisions to section 2153 on December 20, 1996, and submitted them (along with other revisions to LAC 33.III) to the EPA on April 30, 1997. These revisions to section 2153 involved changes to various VOC emission test methods.

The LDEQ again promulgated revisions to section 2153 on January 20, 1998, and submitted them (along with other revisions to LAC 33.III) to the EPA on February 2, 2000. These revisions to section 2153 involved changes to affected source categories.

The LDEQ again promulgated revisions to section 2153 on May 20, 1999, and submitted them (along with other revisions to LAC 33.III) to the EPA on September 7, 1999. These revisions to section 2153 involved numerous changes that were necessary for approval of the VOC RACT rule by the EPA.

III. What Analysis Was Done by the EPA on the State's Submittal?

The EPA has written a Technical Support Document that details the review that was performed on the wastewater VOC rules discussed above. Basically, these rules (LAC 33.III.2153) were compared to the HON to determine if they met the requirements of section 182(b)(2)(C) of the Clean Air Act.

IV. What Action Is EPA Taking?

The EPA is taking direct final action to approve revisions to the Louisiana SIP, to control VOC emissions from industrial wastewater facilities by means of RACT. Specifically, the EPA is approving LAC 33.III.2153, and all revisions to section 2153 up to and including those adopted on May 20, 1999.

V. Why Is This a “Final Action?”

We are publishing this rule without prior proposal because we view this as a noncontroversial amendment and anticipate no adverse comment. However, in the “Proposed Rules” section of today's Federal Register publication, we are publishing a separate document that will serve as the proposal to approve the revisions to incorporate regulations to control VOC emissions from industrial wastewater facilities by means of RACT if adverse comments are received. This rule will be effective on August 19, 2002 without further notice unless we receive adverse comment by July 22, 2002. If EPA receives adverse comment, we will publish a timely withdrawal in the Federal Register informing the public that the rule will not take effect. We will address all public comments in a subsequent final rule based on the proposed rule. We will not institute a second comment period on this action. Any parties interested in commenting must do so at this time.

VI. What Administrative Requirements Apply for This Action?

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 19, 2002. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon Monoxide, Hydrocarbons, Nitrogen dioxide, Nitrogen oxides, Ozone, Reporting and recordkeeping requirements, Volatile organic compounds.

Dated: June 5, 2002.
Lawrence E. Starfield,
Acting Regional Administrator, Region 6.

Part 52, chapter I, title 40 of the Code of Federal Regulations is amended as follows:

PART 52—[AMENDED]

1. The authority citation for Part 52 continues to read as follows:

Authority: 42 U.S.C. 7401 et seq.

Subpart T—Louisiana

2. In § 52.970 the table in paragraph (c) is amended under Chapter 21 by adding, immediately after “Section 2151” and before “Table 8”, a new centered heading entitled “Subchapter M—Limiting Volatile Organic Compound Emissions from Industrial Wastewater,” immediately followed by a new Section 2153, Limiting Volatile Organic Compound Emissions from Industrial Wastewater to read as follows:

§ 52.970 Identification of plan.

* * * * *

(c) * * *

EPA Approved Regulations in the Louisiana SIP
State citation | Title/subject | State approval date | EPA approval date | Comments
* * * * * * *
Chapter 21. Control of Emission of Organic Compounds
* * * * * * *
Subchapter M, | Limiting Volatile Organic Compound Emissions from Industrial Wastewater
Section 2153 | Limiting Volatile Organic Compound Emissions from Industrial Wastewater | May, 1999, LR 25:850 | June 20, 2002, and Federal Register citation
* * * * * * *

[FR Doc. 02-15453 Filed 6-19-02; 8:45 am]

BILLING CODE 6560-50-P